FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011623-002.

Title: APL/MOL/HMM Asia-U.S. Atlantic Coast Space Sharing Agreement.

Parties: American President Lines, Ltd., APL Co. Pte Ltd., Hyundai Merchant Marine Co. Ltd., Mitsui O.S.K. Lines, Ltd.

Synopsis: The agreement is amended to increase the number of vessels deployed and their capacity, rearrange certain of the vessel loops, adjust the space allocation among the parties and provide for certain operational actions.

Agreement No.: 011637-008.

Title: Ampac Cooperative Working Agreement.

Parties: TMM Lines Limited, LLC, Hamburg-Suüdamerikanische Dampfschifffahrts-gesellschaft KG d/b/a Columbus Line, Maruba S.C.A., Compania Chilena de Navegación Interoceánica, S.A.

Synopsis: The proposed agreement modification corrects the address of Columbus Line, deletes Japan from the geographic scope, revises Article 5(a) to reflect changes in the service operated under the agreement, revises Article 5(b)(1) to reflect changes in the chartering of slots under the agreement, revises Article 7 to eliminate the restriction on when a party may provide notice of resignation, and republishes the agreement in a third edition.

Agreement No.: 011692-003.

Title: Indamex Agreement.

Parties: Contship Containerlines, a division of CP Ships (UK) Limited, CMA CGM, S.A., The Shipping Corporation of India Ltd.

Synopsis: The proposed agreement modification deletes all conference-related provisions from the agreement and turns it into a rate discussion agreement. It also republishes the agreement in a fourth edition.

Agreement No.: 011794-002.

Title: COSCON/KL/YMUK/Hanjin/Senator Worldwide Slot Allocation & Sailing Agreement.

Parties: COSCO Container Lines Company, Limited, Kawasaki Kisen Kaisha, Ltd., Yangming (UK) Ltd., Hanjin Shipping Co., Ltd., Senator Lines GmbH.

Synopsis: The proposed agreement modification would restate the current vessel/TEU deployments by the parties, allow Senator Lines certain flexibility to adjust its vessel/TEU deployment without amendment of the agreement, change the arbitration clause to indicate that arbitration will occur in London under English law, and confirm that Senator Lines is not a VOCC.

Agreement No.: 011854.

Title: GreenSea Inc. Joint Service Agreement.

Parties: Green Chartering AS, Seatrade Group N.V.

Synopsis: The agreement establishes a joint service between the parties in the trade from ports on the Atlantic and Gulf Coasts of the United States to ports in Continental Europe, to be operated by a corporate entity known as GreenSea, Inc. It will be owned equally by the parties.

Agreement No.: 011855.

Title: CCNI/Maruba Slot Charter Agreement for Central America and Caribbe Service.

Parties: Compañia Chilena de Navegación Interoceánica, Maruba S.C.A.

Synopsis: The agreement authorizes the parties to charter slots to each other in the trade between Port Everglades and ports in Puerto Rico, on the one hand, and ports in Costa Rica, Guatemala, Dominican Republic and the Caribbean Coast of Colombia, on the other hand. Initial operations will involve two CCNI vessels of 300-TEU capacity offering weekly service. Maruba will be allocated up to 60 TEUs per voyage. The parties request expedited review.

Agreement No.: 201143.

Title: West Coast MTO Discussion Agreement.

Parties: California United Terminals, Inc., Husky Terminals, Inc., International Transportation Service, Inc., Long Beach Container Terminal, Inc., Marine Terminals Corp., Metropolitan Stevedore Company, Pasha Stevedoring & Terminals, L.P., SSA Marine, Trans Bay Container Terminal, Inc., Trans Pacific Container Service Corporation, Yusen Terminals, Inc.

Synopsis: The proposed agreement would allow the parties to discuss and agree on rates, charges, rules, regulations, procedures, practices, terms and other conditions of service pertaining to the transport, handling, receipt, or delivery of cargo by marine terminal operators.

Dated: May 16, 2003.
By Order of the Federal Maritime Commission.
Bryant L. VanBrakle,
Secretary.

[FR Doc. 03-12750 Filed 5-20-03; 8:45 am]

BILLING CODE 6730-01-P